DEPARTMENT OF COMMERCE

National Oceanic and Atmospheric Administration

50 CFR Part 660

[Docket No. 051014263-5330-02; I.D. 120805A]

RIN 0648-AU00

Fisheries Off West Coast States and in the Western Pacific; Pacific Coast Groundfish Fishery; Specifications and Management Measures

AGENCY: National Marine Fisheries Service (NMFS), National Oceanic and Atmospheric Administration (NOAA), Commerce.

ACTION: Proposed rule; request for comments.

SUMMARY: NMFS proposes a rule to implement revisions to the 2006 commercial and recreational groundfish fishery management measures for groundfish taken in the U.S. exclusive economic zone (EEZ) off the coasts of Washington, Oregon, and California. Proposed management measures that are new for 2006 are intended to: achieve but not exceed optimum yields (OYs); prevent overfishing; rebuild overfished species; and reduce and minimize the bycatch and discard of overfished and depleted stocks. NMFS additionally proposes to revise the 2006 darkblotched rockfish OY, at the request of the Pacific Fishery Management Council (Pacific Council), and under the authority of the Magnuson-Stevens Fishery Conservation and Management Act (Magnuson-Stevens Act). These actions, which are authorized by the Pacific Coast Groundfish Fishery Management Plan (FMP) and the Magnuson-Stevens Act, are intended allow fisheries to access more abundant groundfish stocks while protecting overfished and depleted stocks. Finally, NMFS announces with this Federal Register document that the coastwide lingcod stock is no longer considered overfished and is fully rebuilt.

DATES: Comments on this proposed rule will be accepted through January 15, 2006.

ADDRESSES: You may submit comments, identified by I.D. 120805A by any of the following methods:

• E-mail: GroundfishInseason6.nwr@noaa.gov. Include the I.D. number 120805A in the subject line of the message.

• Federal eRulemaking Portal: http://www.regulations.gov. Follow the instructions for submitting comments.

• Fax: 206-526-4646, Attn: Jamie Goen.

• Mail: D. Robert Lohn, Administrator, Northwest Region,

NMFS, Attn: Jamie Goen, 7600 Sand Point Way NE, Seattle, WA 98115-0070.

FOR FURTHER INFORMATION CONTACT: Jamie Goen (Northwest Region, NMFS), phone: 206-526-6140; fax: 206-526-6736; and e-mail: jamie.goen@noaa.gov.

SUPPLEMENTARY INFORMATION:

Electronic Access

This Federal Register document is available on the Government Printing Office's website at: www.gpoaccess.gov/fr/index.html.

Background information and documents are available at the NMFS Northwest Region website at: www.nwr.noaa.gov/1sustfsh/gdfsh01.htm and at the Pacific Council′s website at: www.pcouncil.org.

Background

The Pacific Coast Groundfish FMP and its implementing regulations at title 50 in the Code of Federal Regulations (CFR), part 660, subpart G, regulate fishing for over 80 species of groundfish off the coasts of Washington, Oregon, and California. Groundfish specifications and management measures are developed by the Pacific Council, and are implemented by NMFS. The specifications and management measures for 2005-2006 were codified in the CFR (50 CFR part 660, subpart G). They were published in the Federal Register as a proposed rule on September 21, 2004 (69 FR 56550), and as a final rule on December 23, 2004 (69 FR 77012). The final rule was subsequently amended on March 18, 2005 (70 FR 13118); March 30, 2005 (70 FR 16145); April 19, 2005 (70 FR 20304); May 3, 2005 (70 FR 22808); May 4, 2005 (70 FR 23040); May 5, 2005 (70 FR 23804); May 16, 2005 (70 FR 25789); May 19, 2005 (70 FR 28852); July 5, 2005 (70 FR 38596); August 22, 2005 (70 FR 48897); August 31, 2005 (70 FR 51682); October 5, 2005 (70 FR 58066); October 20, 2005 (70 FR 61063); October 24, 2005 (70 FR 61393); and November 1, 2005 (70 FR 65861).

Acceptable biological catches (ABCs) and OYs are established for each year. Management measures are established at the start of the biennial period, and are adjusted throughout the biennial management period, to keep harvest within the OYs. At the Pacific Council′s October 31 - November 4, 2005, meeting in San Diego, CA, the Pacific Council′s Groundfish Management Team (GMT) considered 2005 catch data and new West Coast Groundfish Observer Program (WCGOP) data and made recommendations to adjust groundfish management measures for December 2005 and for all of 2006. Those adjustments were implemented via an inseason action (70 FR 72385, December 5, 2005). The management measures for the remainder of 2006 (March through December) are being implemented through this proposed rule.

The following changes to current groundfish management measures for March through December 2006 were recommended by the Pacific Council, in consultation with Pacific Coast Treaty Indian Tribes and the States of Washington, Oregon, and California, at its October 31-November 4, 2005, meeting in San Diego, CA. The changes recommended by the Pacific Council include: (1) adjustments to the limited entry fixed gear and open access sablefish daily trip limit (DTL) fishery north of 36° N. lat., (2) adjustments to limited entry trawl cumulative limits for sablefish, thornyheads, Dover sole, other flatfish, petrale sole, arrowtooth flounder, slope rockfish, splitnose rockfish, and lingcod, (3) adjustments to limited entry fixed gear and open access cumulative limits for shelf, shortbelly, and widow rockfish south of 34°27′ N. lat. and minor nearshore and black rockfish between 42° N. lat. and 40°10′ N. lat., (4) adjustments to the Rockfish Conservation Area (RCA) boundaries, (5) adjustments to Washington, Oregon and California′s recreational groundfish fisheries, (6) establishment of limited entry trawl, limited entry fixed gear, and open access trip limits for Pacific cod and spiny dogfish, (7) adjustments to the tribal management measures for Pacific cod, spiny dogfish and thornyheads and (8) clarification of the non-groundfish trawl rockfish conservation area (RCA). Pacific Coast groundfish landings will be monitored throughout the year, and further adjustments to trip limits, RCAs, or management measures will be made as necessary to allow achievement of, or to avoid exceeding, OYs.

Limited Entry Trawl Fisheries

The trawl bycatch model was updated with bycatch and discard rates based on new WCGOP data from September 2004 through April 2005. This update also incorporated four months of data (January through April 2005) from when selective flatfish gear was required shoreward of the trawl RCA north of 40°10′ N. lat. The GMT used the updated trawl bycatch model to analyze adjustments to trawl RCA boundaries and bimonthly limits for target species (sablefish, thornyheads, Dover sole, petrale sole, other flatfish, arrowtooth, slope rockfish, and splitnose rockfish) for 2006. Management measures for March through December are being proposed in this rule.

The Pacific Council recommended adjustments to limited entry trawl cumulative limits for certain target species coastwide, such as sablefish, thornyheads, Dover sole, other flatfish, and arrowtooth flounder, based on projections from the trawl bycatch model. These adjustments for 2006 are projected to keep harvest within the OYs. NMFS concurs with this recommendation; and therefore, is proposing adjusted cumulative limits for these species during March through December 2006 are shown in Table 3 (North) and Table 3 (South). Adjustments to limited entry trawl cumulative limits for other target species are described in detail below.

Petrale Sole

In order to avoid exceeding the petrale sole ABC in 2006 and promote year round fishing opportunities, the Pacific Council recommended establishing cumulative limits in the bottom trawl fishery during Period 6 (November through December). In the past, petrale sole landings were not limited during this period. NMFS concurs with this recommendation; and therefore, is proposing that north of 40°10′ N. lat., limited entry trawl large and small footrope limits would be 60,000 lb (27,216 kg) per 2 months during November and December. North of 40°10′ N. lat., limited entry selective flatfish trawl limits would be 25,500 lb (11,567 kg) per 2 months during November and December. South of 40°10′ N. lat., limited entry trawl limits would be 60,000 lb (27,216 kg) per 2 months during November and December.

In response to higher than anticipated catches of petrale sole in 2005, trawl RCA boundaries were adjusted inseason (70 FR 58066, October 5, 2005) to reduce the catch of petrale sole in Period 6. The implementation of petrale sole cumulative limits for Periods 1 and 6 of 2006 should prevent these higher than anticipated catches from reoccurring in 2006. Therefore, the Pacific Council recommended for 2006, to restore the position of the trawl RCA that was initially scheduled for Period 6 in 2005. NMFS concurs with this recommendation; and therefore, is proposing the position of the trawl RCA during Period 6 would be defined by coordinates approximating the following depth contours: (1) north of 40°10′ N. lat., it extends between the 200-fm (366-m), modified to exclude certain petrale sole areas from the RCA, and the 75-fm (137-m) depth contours; (2) between 40°10′ N. lat. and 34°27′ N. lat., it extends between the 150-fm (274-m) and the 75-fm (137-m) depth contours; and (3) south of 34°27′ N. lat., it extends between the 150-fm (274-m) and the 75-fm (137-m) depth contours along the mainland coast and between the 150-fm (274-m) depth contour and the shoreline around islands.

Slope and Splitnose Rockfish Limits Between 40°10′ N. lat. and 38° N. lat.

At the most recent Pacific Council meeting, the GMT considered a request to liberalize management measures for minor slope and splitnose rockfish in 2006. The harvest of these species has been constrained in recent years because they co-occur with darkblotched rockfish, an overfished rockfish species.

Darkblotched rockfish are not distributed uniformly along the coast but instead are most concentrated in waters off Washington and northern Oregon, with a gradient of decreasing density extending south. Only about three percent of the NMFS triennial bottom trawl survey′s cumulative catch-per-unit-effort of darkblotched rockfish occurs south of 38° N. lat. This observation of decreased density led to implementation of a management line at 38° N. lat. that allows slope management south of 38° N. lat. to be separated from management actions needed to rebuild darkblotched, and allows the severity of management measures between 40°10′ N. lat. and 38° N. lat. to be intermediate to those for areas south of 38° N. lat. and north of 40°10′ N. lat.

Darkblotched rockfish bycatch rates between 40°10′ N. lat. and 38° N. lat. at depths greater than 150-fm (274-m) are considerably lower than those for the same depth range north of 40°10′ N. lat. When bycatch rates for darkblotched rockfish between 40°10′ N. lat. and 38° N. lat. are compared to bycatch rates from depths greater than 200 fm (366 m) north of 40°10′ N. lat., the rates are similar. Given this information, the GMT does not recommend greatly increasing slope and splitnose rockfish cumulative limits as well as implementing a shallower trawl RCA, such as the trawl RCA that is in place south of 38° N. lat., in the area between 40°10′ N. lat. and 38° N. lat. Cumulative slope and splitnose rockfish limits on the order of 20,000 lb (9,072 kg) per 2 months could likely be allowed if the seaward trawl RCA boundary approximated the 200-fm (366-m) depth contour. However, availability of slope and splitnose rockfish species is limited at depths greater than 200-fm (366-m). Alternatively, slope and splitnose rockfish cumulative limits of 8,000 lb (3,628 kg) per 2 months could be used in conjunction with a seaward trawl RCA boundary approximating the 150-fm (274-m) depth contour. The Pacific Council continues to recommend management measures for this area that are intermediate in severity to those used in the areas north of 40°10′ N. lat. and south of 38° N. lat. After feedback from the Pacific Council′s Groundfish Advisory Panel and the trawl industry, the Pacific Council recommended minor adjustments to cumulative limits and the position of the trawl RCA.

NMFS concurs with this recommendation. Therefore, slope and splitnose rockfish cumulative limits are proposed to be increased from 4,000 (1,814 kg) per 2 months to 8,000 lb (3,628 kg) per 2 months and the seaward trawl RCA boundary would approximate the 150-fm (274-m) depth contour, rather than the 200-fm (366-m) depth contour for the area between 40°10′ N. lat. and 38° N. lat for 2006. This regulatory change is expected to allow trawl fisheries in this area to access more abundant slope rockfish species while still maintaining a low incidental catch of darkblotched rockfish.

Lingcod

Lingcod has rebuilt quickly in recent years and is being caught in greater numbers in a range of fisheries coastwide. WCGOP data shows that there is considerable discard of lingcod in the limited entry bottom trawl fishery and suggests that allowing increased retention of lingcod may reduce discard. In 2005, north of 40°10′N. lat., the lingcod selective flatfish trawl limit was 800 lb (363 kg) per 2 months for January through April and September through December, while it was 1,000 lb (454 kg) per 2 months for May through July. The lingcod large and small footrope limits for 2005 were 500 lb (227 kg) per 2 months. South of 40°10′N. lat., the lingcod small footrope limit was 800 lb (363 kg) per 2 months for January through April and September through December, and was 1,000 lb (454 kg) per 2 months for May through July. The lingcod midwater limit south of 40°10′N. lat. was 500 lb (227 kg) per 2 months. In 2005, the lingcod large footrope limits were the same north and south of 40°10′ N. lat. While a substantial increase in lingcod cumulative limits may encourage targeting of lingcod and allow additional bycatch of overfished species (which tend to reside in areas of similar rocky habitat), the Pacific Council believed that a modest increase in lingcod retention could be allowed without negatively affecting lingcod or co-occurring overfished species. In 2004 and 2005, lingcod harvest has been well under its rebuilding OY (by more than 100 mt) and these cumulative limit increases are not projected to affect total lingcod mortality but instead change lingcod discard into landings.

Therefore, the Pacific Council recommended that lingcod cumulative limits in the limited entry trawl fishery be increased to 1,200 lb (544 kg) per 2 months coastwide for all gear types. NMFS concurs with this recommendation and proposes to implement this adjustment.

Canary Rockfish

Based on landings of canary rockfish in the 2005 fishery and discard rate estimates from the WCGOP, the mortality of canary rockfish in the limited entry bottom trawl fishery is higher than originally predicted for the year. In order to reduce mortality of canary rockfish in the 2006 fishery, the GMT modeled options expanding the size of the trawl RCA north of 40°10′ N. lat. by moving the shoreward boundary from approximating the 100-fm (183-m) depth contour to approximating the 75-fm (137-m) depth contour during Periods 2 , 3, and 5. This expansion should reduce the catch of canary rockfish catch shoreward of the trawl RCA in areas north of 40°10′ N. lat.

By applying the discard rates from the WCGOP inseason, it was estimated that the limited entry trawl fishery had caught 9.5 mt of canary rockfish by the end of September 2005. The position of the trawl RCA (extending between the 250-fm (457-m) depth contour to the shoreline) from October 1 - December 31, 2005, is anticipated to effectively keep canary total catch at 9.5 mt through the end of 2005. Using the revised bycatch rates from the WCGOP, including data through April 2005, the proposed limited entry trawl trip limits for 2006 would result in an estimated canary rockfish impact of 7.3 mt. When these revised bycatch rates are used in conjunction with 2005 management measures, the bycatch model is able to closely approximate the amount of canary rockfish estimated to be taken during 2005. However, the updated model does not include new bycatch data beyond Period 2 in 2005 and the Pacific Council and NMFS are still concerned with the degree of uncertainty in projections of the catch of overfished species with selective flatfish trawl gear. Groundfish fisheries will continue to be monitored in 2006 and further inseason adjustments may be necessary.

Therefore, the Pacific Council recommended and NMFS is proposing a trawl RCA that extends between specific latitude and longitude coordinates approximating the 200-fm (366-m) depth contour to coordinates approximating the 75-fm (137-m) depth contour for Periods 2, 3, and 5 north of 40°10′ N. lat. During Period 4, in the area north of 40°10′ N. lat., the trawl RCA would extend between coordinates approximating the 200-fm (366-m) depth contour and the 100-fm (183-m) depth contour as was previously scheduled.

Limited Entry Fixed Gear and Open Access Fisheries Sablefish Limits North of 36° N. lat.

In recent years, the sablefish daily trip limit (DTL) fishery north of 36° N. lat. has caught substantially less than its allocation. Therefore, the GMT believes that some liberalization of sablefish DTL cumulative limits is warranted. In 2005, the sablefish limited entry and open access DTL limits for January through September were 300 lb (136 kg) per day, or 1 landing per week up to 900 lb (408 kg), not to exceed 3,600 lb (1,633 kg) per 2 months. These sablefish DTL cumulative limits were increased for October through December to 500 lb (227 kg) per day, or 1 landing per week up to 1,500 lb (680 kg), not to exceed 9,000 lb (4,082 kg) per 2 months. The GMT is concerned with the lack of effort controls in this fishery and recommended a cautious approach to increasing its cumulative sablefish limits. The Pacific Council considered two options for increasing sablefish DTL limits. The first option maintained the previously scheduled daily limit of 300 lb (136 kg) per day, increased the weekly limit to 1,000 lb (454 kg), and increased the two month limit to 5,000 lb (2,268 kg). The second option increased the daily limit to 400 lb (181 kg), increased the weekly limit to 1,200 lb (544 kg), and increased the 2-month limit to 4,800 lb (2,177 kg). Because radical changes in effort for this fishery have historically been driven by changes in the daily and weekly limit, there is a greater risk of needing to restrict the fishery later in the year associated with the second option. Total catch in the sablefish DTL fishery can be managed under either option, but restricting the fishery later in the year may result in an inequitable distribution of catch and revenues because this fishery starts earlier in southern areas than in northern areas.

Therefore, the Pacific Council recommended and NMFS is proposing sablefish limited entry fixed gear and open access cumulative limits of 300 lb (136 kg) per day, or 1 landing per week up to 1,000 lb (454 kg), not to exceed 5,000 lb (2,268 kg) per 2 months for the area north of 36° N. lat.

Shelf, Shortbelly, and Widow Rockfish South of 34°27′ N. lat.

At its most recent meeting, the Pacific Council also considered a request to increase shelf rockfish, shortbelly, and widow rockfish cumulative limits from 2,000 lb (907 kg) per 2 months to 3,000 lb (1,361 kg) per 2 months for limited entry fixed gear and from 500 lb (227 kg) per 2 months to 750 lb (340 kg) per 2 months for open access fixed gear. In 2005, these cumulative limit increases were implemented inseason for July through December. After reviewing the GMT′s analysis of landings during 2005, the Pacific Council determined that the requested increase could be accommodated in 2006.

Therefore, the Pacific Council recommended and NMFS is proposing a shelf, shortbelly, and widow rockfish limited entry cumulative limit of 3,000 lb (1,361 kg) per 2 months and an open access cumulative limit of 750 lb (340 kg) per 2 months for the area south of 34°27′ N. lat.

Minor Nearshore and Black Rockfish between 40°10′ N. lat. and 42° N. lat.

In 2005, the minor nearshore and black rockfish limited entry fixed gear and open access limits were increased inseason from 5,000 lb (2,268 kg) per 2 months, no more than 1,200 lb (544 kg) of which may be species other than black or blue rockfish, to 6,000 lb (2,722 kg) per 2 months, no more than 1,200 lb (544 kg) of which may be species other than black or blue rockfish, for July through December. As with the previously discussed adjustments to cumulative limits, the Pacific Council received a request to continue these 2005 inseason adjustments into 2006. A review of 2005 PacFIN data revealed no higher than anticipated catch of black rockfish, particularly with respect to black rockfish state harvest guidelines and commercial/recreational catch sharing.

Therefore, the Pacific Council recommended and NMFS is proposing the minor nearshore and black rockfish limited entry fixed gear and open access cumulative limit of 6,000 lb (2,722 kg) per 2 months, no more than 1,200 lb (544 kg) of which may be species other than black or blue rockfish.

Establish Trip Limits for Pacific Cod and Spiny Dogfish

Recent harvest levels and the potential for new markets developing off the West Coast has highlighted the potential need for further management measures, such as trip limits, to control harvest of Pacific cod and spiny dogfish in 2006.

Both of these stocks have harvest specifications (also known as acceptable biological catch (ABC) and OY) set for 2005 and 2006. Pacific cod has its own ABC/OY north of 43° N. lat. and Pacific cod (south of 43° N. lat. only) and spiny dogfish are included in the “other fish” ABC/OY.

The ABC levels for Pacific cod and “other fish” have been based on historical landings. When determining numerical OYs for individual species and species groups for which the ABC is based on a non-quantitative assessment, the Pacific Council may apply precautionary adjustments. Since 2000, the Pacific Council has adjusted the OYs for several unassessed stocks to 50 percent of the historical average catch levels. Although the ABCs for Pacific cod and “other fish” have been based on historical landings, precautionary adjustments were not used to establish OYs until the 2005-2006 biennial management cycle.

Neither Pacific cod nor spiny dogfish has ever been formally assessed on the West Coast. A formal stock assessment for West Coast spiny dogfish is recommended for the next assessment cycle (2007). Even in the absence of a formal assessment, life history information indicates that characteristics of the spiny dogfish (slow growing, late maturing, low fecundity) make it susceptible to overfishing. Dogfish populations have been depressed as a result of fishing in areas of Puget Sound and have been declared overfished off the U.S. East Coast. Pacific cod, on the other hand, is a transboundary stock with most of its biomass distributed north of the U.S.-Canada border. Pacific cod stocks are depressed off the West Coast of Canada.

In recent years, commercial fishermen targeting spiny dogfish have been constrained by their assumed bycatch of yelloweye and canary rockfish, two species which have been declared overfished, and are managed under rebuilding plans. To provide protection for these overfished stocks, NMFS implemented RCAs, which are large areas closed to fishing with designated gear types. While there are limited entry programs in place for trawl and fixed gear, there is also an open access fishery, which is allowed to target groundfish with fixed gear. Since effort is not limited, the fishery has a potential to overharvest spiny dogfish and Pacific cod and/or exceed the projected bycatch associated with the fisheries inseason, even with the RCAs in place. To address the potential of exceeding the estimated amounts of canary and yelloweye rockfish bycatch, which was anticipated for the open access fishery in 2005, the NMFS adopted an emergency rule to set bycatch limits for the directed groundfish open access fishery. These limits were originally set at 1.0 mt for canary rockfish and 0.6 mt for yelloweye rockfish; these limits were raised inseason to 3.0 mt of each species, based on updated projections using WCGOP data.

Based on the life history characteristics of spiny dogfish, their status in other areas, and the lack of effort control in this fishery, the Council recommended that NMFS adopt harvest control regulations (i.e., trip limits), beginning in 2006. Given that a spiny dogfish assessment is likely to occur in 2007, the Council decided to set a separate ABC and OY for spiny dogfish following the next assessment cycle (i.e., for the 2009-2010 management period).

Neither stock has had management measures, such as trip limits, specified in the past. This is a potential management concern given the conservation issues of these stocks and, for Pacific cod, 2004 harvests that approached the 2005 OY. Under the Pacific Coast Groundfish FMP at 6.2.1, new routine management measures must be established through a full rulemaking process (proposed and final rule). This action follows the Pacific Coast Groundfish FMP′s guidance at 6.2.1 for spiny dogfish and Pacific cod.

In order to develop trip limits for spiny dogfish and Pacific cod, the GMT did trip frequency analyses for both species using fish ticket data from the 2000-2004 fisheries. The trip limits recommended by the Pacific Council were developed to generally accommodate current harvest levels on a two-month cumulative basis. It is anticipated that, if participation in the groundfish fishery remains at the current level, these trip limits would keep total fishing mortality during each year within the ABC/OY established for that year.

In addition, the Makah Tribe has requested a harvest guideline for Pacific cod of 350-400 mt to accommodate the tribal fisheries. While the Makah Tribe requested and the Pacific Council recommended a range of 350-400 mt to be set aside from the Pacific cod OY, NMFS will implement the more conservative end of the Pacific Council's request for the tribes, 400 mt. Tribal harvest of Pacific cod was 254 mt in 2003 and 350 mt in 2004, which is a substantial portion of the harvest off the northern Washington coast. Currently, this tribal harvest is accounted for in the overall OY, which is shared by tribal and non-tribal fisheries. As proposed, the tribal harvest guideline would be subtracted from the overall OY, and would reduce the amount of the commercial harvest guideline that is available for non-tribal fisheries. The proposed trip limits for the non-tribal fisheries may need to be adjusted inseason to stay within the non-tribal portion of the OY.

In 2005, concerns over unanticipated participants in the open access fisheries, and the estimated amounts of targeted species harvest and potential bycatch of overfished rockfish, were addressed through bycatch limits for canary and yelloweye rockfish that were established for the open access sector through emergency rule (70 FR 23804, May 5, 2005; revised at 70 FR 38596, July 5, 2005; renewed at 70 FR 65861, November 1, 2005) and were extended through May 1, 2006. If trip limits for spiny dogfish and Pacific cod are implemented for March through December 2006, the Pacific Council recommended that the bycatch limits for canary and yelloweye rockfish for the open access sector not be extended into 2006. Thus, if this rule is implemented, NMFS proposes to remove the bycatch limits with implementation of a final rule for this action.

Therefore, the Pacific Council recommended and NMFS is proposing a tribal harvest guideline of 400 mt of the 2006 Pacific cod OY, removal of open access bycatch caps, designating trip limits as routine for spiny dogfish and Pacific cod at § 660.370(c), and establishing trip limits for Pacific cod and spiny dogfish as follows: (1) Limited entry trawl trip limits for Pacific cod coastwide will be 30,000 lb (13,608 kg) per 2 months in Periods 2 (March-April) and 6 (November-December) and 70,000 lb (31,752 kg) per 2 months in Periods 3 through 5 (May-October); (2) Limited entry fixed gear and open access trip limits coastwide for Pacific cod will be 1,000 lb (454 kg) per 2 months in Periods 2 through 6; (3) Limited entry trawl, limited entry fixed gear and open access trip limits for spiny dogfish coastwide will be 200,000 lb (90,719 kg) per 2 months in Period 2, 150,000 lb (68,039 kg) per 2 months in Period 3 (May-June), and 100,000 lb (45,359 kg) per 2 months in Periods 4-6 (July-December).

At the November Pacific Council meeting, the Pacific Council also recommended and NMFS is proposing that the tribes manage tribal dogfish fisheries within the non-tribal dogfish trip limits.

Tribal Commercial Fisheries

The Makah Tribe is planning a bottom trawl fishery targeting Dover sole, longspine thornyheads, shortspine thornyheads, and sablefish (DTS) for 2006. In order to prosecute a DTS fishery, the tribes would need a modification of their current management regime. Rather than fish under the current 300 lb (136 kg) per trip limit of combined thornyhead species, the Makah Tribe proposes to operate under the limited entry trawl trip limits for both shortspine and longspine thornyheads. The Pacific Council agreed with this proposal.

Therefore, in addition to the tribal harvest guideline of 400 mt being proposed for Pacific cod and the tribal fisheries for spiny dogfish operating under trip limits as mentioned above in the preamble, the Pacific Council recommended and NMFS is proposing to allow the tribes to operate under the limited entry trawl trip limits for both shortspine and longspine thornyheads.

RCAs

This rule also proposes revisions to specific latitude and longitude coordinates that comprise RCA boundaries. In general, these revisions correct mistakes such as the transposition of latitude and longitude coordinates, single coordinates that are either incorrect or missing, and single coordinates that deviate from the depth contour. Affected RCA boundaries are the 30-fm (55-m) and 60-fm (110-m) boundaries around the northern Channel Islands and the coastwide 150-fm (274-m) boundary.

Non-Groundfish Trawl RCA

The non-groundfish trawl RCA has, in the past, generally followed the same RCA boundary lines as the limited entry trawl RCA. Therefore, when referring generally to the “trawl RCA,” it has meant both limited entry trawl and non-groundfish trawl. However, RCA boundaries for these two sectors, limited entry trawl and non-groundfish trawl, may differ. The trip limit tables for these sectors, Tables 3 and 5, differentiate the trawl RCAs by calling those in Table 5 (open access trip limit table), non-groundfish trawl RCA. However, in Section 660.383 of the regulations, open access fishery management measures, the general term “trawl RCA” is used.

Therefore, in order to be more clear, NMFS proposes to replace the term “trawl RCA” in Section 660.383 with the term “non-groundfish trawl RCA.”

Washington's Recreational Groundfish Fishery

The Washington Department of Fish and Wildlife (WDFW) took inseason action in August 2005 to close the Washington recreational bottomfish fisheries seaward of the recreational RCA, a line approximating the 30-fm (55-m) depth contour north of Leadbetter Pt., WA (46°38.17′ N. lat.), since the canary and yelloweye rockfish catches were approaching the state′s recreational harvest targets for those species. NMFS took conforming action through the inseason action published in the Federal Register on October 5, 2005 (70 FR 58066). Because the state recreational harvest targets are annual targets that are used to stay within joint WA/OR annual harvest guidelines, the Pacific Council recommended that the prohibition on fishing seaward of a boundary line approximating the 30-fm (55-m) depth contour be removed for the 2006 Washington recreational fishery, beginning January 1, 2006, but remain available as an option for inseason action in 2006 should the canary or yelloweye rockfish harvest target be approached.

Therefore, the Pacific Council recommended and NMFS proposes removing the prohibition on fishing seaward of the 30-fm (55-m) boundary line between the U.S./Canada border and 46°38.17′ N. lat. (Leadbetter Point, WA) and maintaining the availability of that boundary for inseason management in 2006.

Oregon's Recreational Groundfish Fishery

In addition to other bag limit reductions in 2005, the Oregon Department of Fish and Wildlife (ODFW) took inseason action in July 2005 to reduce the daily recreational marine fish bag limit from 8 fish to 5 fish to slow the harvest of black rockfish. ODFW took additional action in August 2005 to prohibit retention of cabezon in the recreational ocean boat fishery, due to attainment of the annual state harvest guideline for cabezon. NMFS took conforming action on both of these items through the inseason action published in the Federal Register on October 5, 2005 (70 FR 58066). The Federal and state harvest guidelines are set on an annual basis, and the inseason actions taken in 2005 were in response to attainment of harvest guidelines set for the 2005 fishing year. The Pacific Council recommended that the recreational bag limit regulations that were in place in January 2005 be implemented in January 2006 to allow fisheries access to available harvest. In March 2005, NMFS published an inseason action (70 FR 16145, March 30, 2005) which, in part, revised the Federal marine fish species list for Oregon to match the list used in Oregon state regulation. Therefore, in addition to the wording in the January 2005 regulations, NMFS will include the revised species list in the 2006 Oregon recreational language. ODFW anticipates requesting Federal inseason action on their recreational regulations in March 2006, pending Oregon Department of Fish and Wildlife Commission approval of regulations governing the 2006 recreational fishery.

Therefore, the Pacific Council recommended and NMFS is proposing recreational groundfish fishery regulations off of Oregon as they read at the beginning of 2005, with the exception that NMFS is maintaining the revised species list as published in the Federal Register on March 30, 2005 (70 FR 16145) so that it is clear that Oregon′s marine fish bag limit also excludes salmonids, hybrid bass, and offshore pelagic species.

California's Recreational Groundfish Fishery

The Pacific Council recommended a change in the recreational RCAs south of 34°27′ N. lat. for 2006 from a closed shoreward of a boundary line approximating the 30-fm (55-m) depth contour and a closed seaward of a boundary line approximating the 60-fm (110-m) depth contour (i.e., open between the 30-fm (55-m) and 60-fm (110-m) boundary lines) to closed either seaward of a boundary line approximating the 30-fm (55-m) depth contour or closed seaward of a boundary line approximating the 60-fm (110-m) depth contour, depending on the season. This change is expected to alleviate confusion among recreational anglers on what depths are closed to fishing and provide for a more enforceable depth restriction. The California Department of Fish and Game conducted an impact analysis using projected catch estimates for 2006 (based on 2004 California Recreational Fisheries Survey estimates). The analysis indicated that this change will not significantly increase groundfish catches in this area during this time period and will keep the harvest within the current harvest targets.

In addition, management measures for recreational fisheries off California in December 2006 are adjusted to conform Federal and state regulations for the recreational RCA between 40°10′ N. lat. and 36° N. lat. At the Pacific Council′s April 2005 meeting, the Pacific Council recommended, in part, that the recreational RCA prohibit fishing seaward of the 20-fm (37-m) depth contour for July through December. NMFS inadvertently missed this recommendation as it applied to December in the May inseason action (70 FR 23040, May 4, 2005) and, therefore, Federal regulations implemented a recreational RCA extending between the shoreline and the EEZ during December.

Therefore, the Pacific Council recommended and NMFS is proposing 2006 California recreational groundfish fishery RCA regulations as follows:

(1) Between 40°10′ N. lat. and 36° N. lat., recreational fishing for all groundfish (except “other flatfish”) is prohibited seaward of the 20-fm (37-m) depth contour along the mainland coast and along islands and offshore seamounts from July 1 through December 31; and is closed entirely from January 1 through June 30 (i.e., prohibited seaward of the shoreline).

(2) South of 34°27.00′ N. latitude, recreational fishing for all groundfish (except California scorpionfish and “other flatfish”) is prohibited seaward of a boundary line approximating the 60-fm (110-m) depth contour from March 1 through August 30 and November 1 through December 31 along the mainland coast and along islands and offshore seamounts; recreational fishing is also prohibited seaward of a boundary line approximating the 30-fm (55-m) depth contour from September 1 through October 31; except in the CCAs where fishing is prohibited seaward of the 20-fm (37-m) depth contour when the fishing season is open. Recreational fishing for all groundfish (except “other flatfish”) is closed entirely from January 1 through February 28 (i.e., prohibited seaward of the shoreline). Recreational fishing for California scorpionfish south of 34°27.00′ N. latitude is prohibited seaward of a boundary line approximating the 30-fm (55-m) depth contour from October 1 through October 31, and seaward of the 60-fm (110-m) depth contour from November 1 through December 31, except in the CCAs where fishing is prohibited seaward of the 20-fm (37-m) depth contour when the fishing season is open. Recreational fishing for California scorpionfish south of 34°27.00′ N. latitude is closed entirely from January 1 through September 30 (i.e., prohibited seaward of the shoreline).

Reduction to the 2006 Darkblotched Rockfish OY

In August 2005, the agency received a Court of Appeals ruling in Natural Resources Defense Council v. National Marine Fisheries Service, 421 F.3d 872 (9th Cir. 2005). The Court of Appeals reversed an earlier District Court′s holding that the Agency had not violated the Magnuson-Stevens Act in setting its 2002 harvest specifications for darkblotched rockfish. The Court of Appeals also remanded the case to the District Court for any further proceedings.

At this November 2005 meeting, the Pacific Council began consideration of the groundfish harvest specifications and management measures for 2007-2008. The Council is next scheduled to address this issue in April 2006, with final adoption in June 2006. NMFS will then publish the Council′s recommendations for the 2007-2008 harvest specifications and management measures in the Federal Register for public notice and comment. The agency expects to implement the 2007-2008 groundfish specifications and management measures by January 1, 2007. When considering both the Court of Appeals ruling and its own schedule for developing 2007-2008 harvest specifications and management measures, the Council recommended interim measures to address darkblotched rockfish rebuilding in 2006 and a process for revising all of the overfished species rebuilding plans for 2007 and beyond.

For darkblotched rockfish in 2006, the Council asked its GMT to analyze the expected effects on darkblotched rockfish of reducing the previously adopted 2006 OY of 294 mt, using the conclusions of the 2005 darkblotched stock assessment, the best available science. (A draft assessment document was reviewed in May 2005 by a Council-sponsored Stock Assessment Review (STAR) Panel, which included two independent reviewers from the Center for Independent Experts. Following changes to the model and document based on the STAR Panel review, the assessment was reviewed by the Council's Scientific and Statistical Committee, which recommended the assessment to the Council at its September 2005 meeting. At the same meeting, the Council approved the assessment.) In order to illustrate the effects of different OYs on darkblotched rebuilding, the GMT analyzed a variety of potential 2006 OYs ranging from 0-696 mt. The GMT estimated that with a darkblotched OY of zero, the stock would be rebuilt by June 2009; with an OY of 200 mt, the stock would be rebuilt by March 2010; and with the OY based on the current harvest rate (OY of 269 mt in 2005 and 294 mt in 2006), the stock would be rebuilt by June 2010.

Darkblotched rockfish harvest in 2005 was much lower than the available OY due to management measures intended to protect canary rockfish, which can co-occur with darkblotched at some depths and in some areas. The GMT analysis of a 2006 OY level of 200 mt is based on the projected estimates of darkblotched rockfish assuming a continuation of the currently planned management measures, which are intended to constrain the total catch of all overfished species. At a 2006 darkblotched rockfish OY of 200 mt, the stock is expected to rebuild to the MSY level by March 2010. An OY of 200 mt is not expected to noticeably alter the economic impacts of the 2005-2006 harvest specifications and management measures on the public, since darkblotched rockfish harvest is projected to already be constrained at this level by measures intended to protect canary rockfish.

This action proposes using Magnuson-Stevens Act authority at Section 305(c)(2)(B) to implement an interim measure to reduce the 2006 darkblotched rockfish OY from 294 mt to 200 mt. The Pacific Council recommended this reduction in consideration of the recent 9th Circuit Court of Appeals decision in Natural Resources Defense Council v. NMFS, 421 F.3d 872 (9th Cir. 2005). In response to that decision, the Pacific Council is developing Amendment 16-4 to revise all rebuilding time periods to be “as short as possible,” while taking into account the status and biology of the overfished stocks, the needs of the fishing communities, and the interaction of the overfished stocks within the marine ecosystem.

For 2006, the Pacific Council recommended establishing the darkblotched OY at 200 mt, which is based on the most recent information to derive projections of 2006 catch of darkblotched (192 mt), assuming the current restrictive management measures remain in place. Of the 200 mt, 5.2 mt are anticipated to be taken during research activity, leaving 194.8 mt available to the commercial fishery. This revised OY would minimize the potential that the actual harvest in 2006 could exceed the amount that is currently estimated to be harvested under on the current management regime. In making this recommendation, the Council rejected a harvest rate of zero (and corresponding OY of zero) because it would ignore entirely the needs of fishing communities and would have devastating economic impacts while at the same time reducing by less than one year the time to rebuild the stock, relative to an OY of 200 mt.

NMFS agrees with the recommendation of the Pacific Council. It represents a good faith interim step to maintain, during the development and implementation for 2007 of a revised rebuilding period and associated measures, the darkblotched rockfish mortality at current levels without increasing the economic impacts on the already heavily restricted fishery. NMFS proposes to implement the reduction via this proposed rule in order to give the public the opportunity to comment on the reduction before it is promulgated as a final rule. On December 2, 2005, District Judge Breyer ordered that: this proposed rule be filed by December 15, 2005; the comment period shall run through January 15, 2006; and the final rule shall be filed no later than February 15, 2006. NMFS would intend for the reduction in the 2006 darkblotched rockfish OY to be in effect for all of 2006, once implemented.

For 2007 and beyond, the Council adopted a revised schedule for developing the 2007-2008 groundfish harvest specifications and management measures that includes revisions to all of the overfished species rebuilding plans. While developing the 2007-2008 groundfish specifications and management measures, the Council intends to develop Amendment 16-4 to the FMP. Amendment 16-4 would revise all of the rebuilding plans in the FMP using the Court of Appeals guidance to set target dates for rebuilding plans and associated allowable harvest levels for overfished species.

Lingcod Rebuilt

At its October 31 - November 4 meeting, the Council adopted the 2005 groundfish stock assessments that will be used to derive the 2007-2008 harvest specifications and management measures. Council adoption of stock assessments follows the detailed Stock Assessment Review panel (STAR) process, which culminates in Scientific and Statistical Committee (SSC) review of the stock assessments and STAR panel reviews of those assessments. The SSC makes recommendations to the Council on the appropriateness of using the different stock assessments for management, after which the Council considers whether to adopt those stock assessments.

Lingcod was initially declared overfished in 1999 (64 FR 49092, September 10, 1999.) The 2005 lingcod stock assessment estimates that the coastwide lingcod stock in 2005 is at 64 percent of its unfished biomass level, with the northern component of the stock (north of Cape Mendocino, CA) at 87 percent of its unfished biomass level and the southern component of the stock at 27 percent of its unfished biomass level. Because lingcod is managed as a single coastwide stock, the stock is considered to be rebuilt above the MSY level, which the FMP sets as 40 percent of a stock′s unfished biomass. The SSC endorsed the 2005 lingcod stock assessment as the best available science, and the Council adopted the assessment for use in 2007-2008 management.

Based on the recommendations of the SSC and the Council, this Federal Register document announces that NMFS considers the lingcod stock off the U.S. West Coast to be rebuilt. Because the 2006 lingcod harvest levels were set through a biennial management process based on a 2003 stock assessment, lingcod harvest in 2006 will continue to be constrained by the lingcod rebuilding plan. As the Council develops Amendment 16-4 to the FMP, it plans to consider removing the lingcod rebuilding plan from the FMP.

Classification

NMFS has determined that the proposed rule is consistent with the FMP and has preliminarily determined that the rule is consistent with the Magnuson-Stevens Act and other applicable laws and is based on the most recent data available. The aggregate data upon which these actions are based are available for public inspection at the Office of the Administrator, Northwest Region, NMFS, (see ADDRESSES) during business hours.This action contains a variety of proposed revisions to management measures and harvest specifications. With respect to the Regulatory Flexibility Act (RFA), all of the revisions proposed in this action, except trip limits for Pacific cod and spiny dogfish, are within the scope of the analysis conducted for the proposed and final rules to implement the 2005-2006 groundfish harvest specifications and management measures. The Initial Regulatory Flexibility Analysis (IRFA) for the 2005-2006 specifications and management measures was summarized in the preamble to the proposed rule published on September 21, 2004 (69 FR 56550,) at pages 56572-56573, and concluded that the then proposed action would have intermediary effects between the different specifications and management measures alternatives considered. The Final Regulatory Flexibility Analysis was summarized in the final rule published on December 23, 2004 (69 FR 77012,) at pages 77025-77026, and confirmed the conclusions of the IRFA with regard to the effects of the action on small entities. A copy of this analysis is available from the Council (see ADDRESSES).

For the management measures that are new for 2006, trip limits for spiny dogfish and Pacific cod, NMFS prepared an IRFA as required by section 603 of the RFA. The IRFA describes the economic impact this proposed rule, if adopted, would have on small entities. A description of the action, why it is being considered, and the legal basis for this action are contained in the preamble. A copy of this analysis is available from NMFS (see ADDRESSES). A summary of the analysis follows.

The Pacific coast groundfish fisheries, which include fisheries for spiny dogfish and Pacific cod, are covered by the Pacific Coast Groundfish FMP and developed by the Pacific Council in collaboration with the NMFS. The proposed rule would establish management measures to constrain total fishing mortality to within harvest specifications for spiny dogfish and Pacific cod, and co-occurring species. These management measures will be established for the calendar year 2006, although they are considered within the context of past management and long-term sustainability of managed fish stocks. Separate harvest specifications (ABC/OY) have already been established for each year, 2005 and 2006; management measures are intended to keep total fishing mortality during each year within the ABC/OY established for that year.

The management measures in this proposed rule would constrain commercial harvests in 2006 to levels that will ensure the spiny dogfish and Pacific cod stocks, and co-occurring species, are maintained at, or restored to, sizes and structures that will produce the highest net benefit to the nation, while balancing environmental and social values. Currently, there are no specific effort controls on the Pacific cod and dogfish fisheries. Although there is a limited entry program for Pacific Coast groundfish, there is also an open access fishery and neither of these fisheries has specific trip limits. In response to a potential increase in effort and capacity from new entrants in the open access portion of the fishery, NMFS implemented an emergency rule in 2005. This rule set bycatch limits in the directed open access groundfish fishery, which includes spiny dogfish and Pacific cod (70 FR 23804, May 5, 2005; revised at 70 FR 38596, July 5, 2005; renewed at 70 FR 65861, November 1, 2005). These limits were set to specifically assure that an increase in effort in the spiny dogfish fishery would not lead to overfishing on canary and yelloweye rockfish and thus lead to potential closures of economically important commercial and recreational groundfish fisheries off the West Coast. As described in the Environmental Assessment/Regulatory Impact Review/IRFA, there is not only a concern about the bycatch of overfished species, but also about the spiny dogfish and Pacific cod resources as well. Neither of these resources has been formally assessed, while neighboring stocks are depressed (i.e., Puget sound spiny dogfish and Canadian Pacific cod). The management measures in this proposed rule will ensure spiny dogfish and Pacific cod are harvested within ABC/OY limits during 2006 and in a manner consistent with the Groundfish FMP and National Standards Guidelines (50 CFR 600 Subpart D), using routine management tools available to the specifications and management measures process (FMP at 6.2.1, 50 CFR 660.370(c)).

The economic impact of these management measures for Pacific cod and spiny dogfish will be shared among groundfish buyers and commercial harvesters. It is estimated there are about 730 groundfish buyers and 1,700 commercial vessels coastwide that may be affected by these actions. Most of these entities would likely qualify as small businesses under the Small Business Administration′s criteria, with the exception of fewer than 5 buyers/processors. The proposed action would affect commercial fisheries primarily off the coasts of Washington and Oregon.

The alternatives analyzed for this action ranged from Alternative 1, status quo or unlimited trip limits for spiny dogfish and Pacific cod, to Alternative 3, the most conservative or constraining trip limits. Alternatives 2 and 2a are intermediate trip limit levels. The preferred alternatives, proposed via this action are Alternative 2 for Pacific cod and Alternative 2a for spiny dogfish. Alternatives 2, 2a and 3 vary only slightly in their trip limit levels and were structured to maintain current participation in the fishery without encouraging new participation. The alternatives accommodate most of the recent harvest levels in the fishery, with Alternative 3 being slightly constraining to some vessels.

Because the alternatives analyzed for this action are intended to maintain current levels of fishery participation without opening the possibility of large-scale new entrants to the fishery, all of the alternatives are expected to have little to no impact on current fishery participants. However, this action could foreclose opportunity for large vessels that may wish to enter the fishery in the future, since the trip limits proposed via this action are based on harvest levels commonly taken by the current smaller-sized participating vessels.

All of the management measures in this proposed rule, except the spiny dogfish and Pacific cod trip limits, are within the scope of the EIS prepared for the 2005-2006 Pacific Coast groundfish specifications and management measures. NMFS prepared and EA for the spiny dogfish and Pacific cod trip limits which discussed a range of alternative trip limits which were considered by the Pacific Council. The alternatives ranged from Alternative 1, status quo or unlimited trip limits for spiny dogfish and Pacific cod, to Alternative 3, the most conservative or constraining trip limits. Alternatives 2 and 2a are intermediate trip limit levels. The preferred alternatives were Alternative 2 for Pacific cod and Alternative 2a for spiny dogfish. Alternatives 2, 2a and 3 vary only slightly in their trip limit levels and were structured to maintain current participation in the fishery without encouraging new participation. The alternatives accommodate most of the recent harvest levels in the fishery, with Alternative 3 being slightly constraining to some vessels. No significant economic impacts are expected for small entities from this action.

There are no new reporting or record-keeping requirements that are proposed as part of this action. No Federal rules have been identified that duplicate, overlap, or conflict with the alternatives. Public comment is hereby solicited, identifying such rules, if any.

In accordance with E.O. 13175, this proposed rule was developed after meaningful consultation and collaboration with the tribal representative on the Pacific Council and tribal officials from the tribes affected by this action. Under the Magnuson-Stevens Act at 16 U.S.C. 1852(b)(5), one of the voting members of the Pacific Council must be a representative of an Indian tribe with federally recognized fishing rights from the area of the Council′s jurisdiction. The tribal representative on the Council made a motion to adopt the management measures in this rule that would affect tribal fishery participants, which was passed by the Council.

This proposed rule has been determined to be not significant for purposes of Executive Order 12866.

List of Subjects in 50 CFR Part 660

Administrative practice and procedure, American Samoa, Fisheries, Fishing, Guam, Hawaiian Natives, Indians, Northern Mariana Islands, Reporting and recordkeeping requirements.

Dated: November 13, 2005.
James W. Balsiger,
Acting Deputy Assistant Administrator for Regulatory Programs, National Marine Fisheries Service.

For the reasons set out in the preamble, 50 CFR part 660 is proposed to be amended as follows:

PART 660—FISHERIES OFF WEST COAST STATES AND IN THE WESTERN PACIFIC

1. The authority citation for part 660 continues to read as follows:

Authority: 16 U.S.C. 1801 et seq.

2. In § 660.370, paragraph (c)(1)(i) introductory text, (c)(1)(ii), and (d) are revised and paragraphs (c)(1)(iii), (c)(1)(iv) and (i) are removed to read as follows:

§ 660.370 Specifications and management measures.

* * * * *

(c) * * *

(1) * * *

(i) Trip landing and frequency limits, size limits, all gear. Trip landing and frequency limits have been designated as routine for the following species or species groups: widow rockfish, canary rockfish, yellowtail rockfish, Pacific ocean perch, yelloweye rockfish, black rockfish, blue rockfish, splitnose rockfish, chilipepper rockfish, bocaccio, cowcod, minor nearshore rockfish or shallow and deeper minor nearshore rockfish, shelf or minor shelf rockfish, and minor slope rockfish; DTS complex which is composed of Dover sole, sablefish, shortspine thornyheads, and longspine thornyheads; petrale sole, rex sole, arrowtooth flounder, Pacific sanddabs, and the flatfish complex, which is composed of those species plus any other flatfish species listed at § 660.302; Pacific whiting; lingcod; Pacific cod; spiny dogfish; and “other fish” as a complex consisting of all groundfish species listed at § 660.302 and not otherwise listed as a distinct species or species group. Size limits have been designated as routine for sablefish and lingcod. Trip landing and frequency limits and size limits for species with those limits designated as routine may be imposed or adjusted on a biennial or more frequent basis for the purpose of keeping landings within the harvest levels announced by NMFS, and for the other purposes given in paragraphs (c)(1)(i)(A) and (B) of this section.

* * * * *

(ii) Differential trip landing limits and frequency limits based on gear type, closed seasons. Trip landing and frequency limits that differ by gear type and closed seasons may be imposed or adjusted on a biennial or more frequent basis for the purpose of rebuilding and protecting overfished or depleted stocks. To achieve the rebuilding of an overfished or depleted stock, the Pacific whiting primary seasons described at § 660.373(b), may be closed for any or all of the fishery sectors identified at § 660.373(a) before the sector allocation is reached if any of the bycatch limits identified at § 660.373(b)(4) are reached.

* * * * *

(d) Automatic actions. Automatic management actions may be initiated by the NMFS Regional Administrator without prior public notice, opportunity to comment, or a Council meeting. These actions are nondiscretionary, and the impacts must have been taken into account prior to the action. Unless otherwise stated, a single notice will be published in the Federal Register making the action effective if good cause exists under the Administrative Procedure Act to waive notice and comment. Automatic actions are used in the Pacific whiting fishery to close the fishery or reinstate trip limits when a whiting harvest guideline, commercial harvest guideline, or a sector′s allocation is reached, or is projected to be reached; or to reapportion unused allocation to other sectors of the fishery.

* * * * *

3. In § 660.383, paragraph (c)(4) is revised and paragraph (f) is removed to read as follows:

§ 660.383 Open access fishery management measures.

* * * * *

(c) * * *

(4) Non-groundfish Trawl Rockfish Conservation Areas for the open access non-groundfish trawl fisheries. (i) Fishing with any non-groundfish trawl gear in the open access fisheries is prohibited within the non-groundfish trawl RCA coastwide, except as authorized in this paragraph. Trawlers operating in the open access fisheries with legal groundfish trawl gear are considered to be operating in the non-groundfish trawl fishery and are, therefore, prohibited from fishing in the non-groundfish trawl RCA. Coastwide, it is unlawful to take and retain, possess, or land any species of fish taken with non-groundfish trawl gear within the non-groundfish trawl RCA, except as permitted in this paragraph for vessels participating in the pink shrimp and ridgeback prawn trawl fisheries. Boundaries for the non-groundfish trawl RCA throughout the year in the open access fishery are provided in Table 5 (North) and Table 5 (South) of this subpart and may be modified by NMFS inseason pursuant to § 660.370(c). Non-groundfish trawl RCA boundaries are defined by specific latitude and longitude coordinates which are specified below at §§ 660.390 through 660.394. The non-groundfish trawl RCA is closed coastwide to open access non-groundfish trawl fishing, except as follows:

(A) Pink shrimp trawling is permitted in the non-groundfish trawl RCA, and

(B) When the shoreward line of the non-groundfish trawl RCA is shallower than 100-fm (183-m), the ridgeback prawn trawl fishery south of 34°27.00′ N. lat. may operate out to the 100-fm (183-m) boundary line specified at § 660.393 (i.e., the shoreward boundary of the non-groundfish trawl RCA is at the 100-fm (183-m) boundary line all year for the ridgeback prawn trawl fishery in this area).

(ii) For the non-groundfish trawl gear fisheries, non-groundfish trawl RCAs, if applicable, are generally described in the non-groundfish trawl gear sections at the bottom of Tables 5 (North) and 5 (South) of this subpart. Retention of groundfish caught by non-groundfish trawl gear is prohibited in the designated RCAs, except that:

(A) pink shrimp trawl may retain groundfish caught both within and shoreward and seaward of the non-groundfish trawl RCA subject to the limits in Tables 5 (North) and 5 (South) of this subpart, and

(B) South of 34°27′ N. lat., ridgeback prawn trawl may retain groundfish caught both within the non-groundfish trawl RCA out to 100-fm (183-m) when the shoreward boundary of the non-groundfish trawl RCA is shallower than 100-fm (183-m) (i.e., the shoreward boundary of the non-groundfish trawl RCA is at the 100-fm (183-m) boundary line all year for the ridgeback prawn trawl fishery in this area) and shoreward and seaward of the non-groundfish trawl RCA subject to the limits in Tables 5 (North) and 5 (South) of this subpart.

(iii) If a vessel fishes in the non-groundfish trawl RCA, it may not participate in any fishing on that trip that is prohibited by the restrictions that apply within the non-groundfish trawl RCA. [For example, if a vessel participates in the pink shrimp fishery within the RCA, the vessel cannot on the same trip participate in the DTS fishery seaward of the RCA.] Nothing in these Federal regulations supercedes any state regulations that may prohibit trawling shoreward of the 3-nm state waters boundary line.

* * * * *

4. In § 660.384, paragraphs (c)(1)(i)(B), (c)(2)(i) and (iii), (c)(3)(i)(A)(2) and (4) are revised to read as follows:

§ 660.384 Recreational fishery management measures.

* * * * *

(c) * * *

(1) * * *

(i) * * *

(B) Recreational Rockfish Conservation Area. Fishing for groundfish with recreational gear is prohibited within the recreational RCA. It is unlawful to take and retain, possess, or land groundfish taken with recreational gear within the recreational RCA. A vessel fishing in the recreational RCA may not be in possession of any groundfish. [For example, if a vessel participates in the recreational salmon fishery within the RCA, the vessel cannot be in possession of groundfish while in the RCA. The vessel may, however, on the same trip fish for and retain groundfish shoreward of the RCA on the return trip to port.] Off Washington, if recreational fishing for all groundfish is prohibited seaward of a boundary line approximating the 30-fm (55-m) depth contour, a document will be published in the Federal Register inseason pursuant to § 660.370(c). Coordinates for the boundary line approximating the 30-fm (55-m) depth contour are listed in § 660.391.

* * * * *

(c) * * *

(2) * * *

(i) Recreational Groundfish Conservation Areas off Oregon. Fishing for groundfish with recreational gear is prohibited within the recreational RCA, a type of closed area or GCA. It is unlawful to take and retain, possess, or land groundfish taken with recreational gear within the recreational RCA. A vessel fishing in the recreational RCA may not be in possession of any groundfish. [For example, if a vessel participates in the recreational salmon fishery within the RCA, the vessel cannot be in possession of groundfish while in the RCA. The vessel may, however, on the same trip fish for and retain groundfish shoreward of the RCA on the return trip to port.] Off Oregon, from June 1 through September 30, recreational fishing for groundfish is prohibited seaward of a recreational RCA boundary line approximating the 40-fm (73-m) depth contour. Coordinates for the boundary line approximating the 40-fm (73-m) depth contour are listed at § 660.391. Recreational fishing for all groundfish may be prohibited inseason seaward of the 20-fm (37-m) depth contour or seaward of a boundary line approximating the 30-fm (55-m) depth contour. If the closure seaward of the 20-fm (37-m) depth contour or a boundary line approximating the 30-fm (55-m) depth contour is implemented inseason, a document will be published in the Federal Register pursuant to § 660.370(c). Coordinates for the boundary line approximating the 30-fm (55-m) depth contour are listed at § 660.391.

* * * * *

(iii) Bag limits, size limits. The bag limits for each person engaged in recreational fishing in the EEZ seaward of Oregon are two lingcod per day, which may be no smaller than 24 in (61 cm) total length; and 10 marine fish per day, which excludes Pacific halibut, salmonids, tuna, perch species, sturgeon, sanddabs, lingcod, striped bass, hybrid bass, offshore pelagic species and baitfish (herring, smelt, anchovies and sardines), but which includes rockfish, greenling, cabezon and other groundfish species. The minimum size limit for cabezon retained in the recreational fishery is 16 in (41 cm) and for greenling is 10 in (26 cm). Taking and retaining canary rockfish and yelloweye rockfish is prohibited.

* * * * *

(c) * * *

(3) * * *

(i) * * *

(A) * * *

(2) Between 40°10′ N. lat. and 36° N. lat., recreational fishing for all groundfish (except “other flatfish”) is prohibited seaward of the 20-fm (37-m) depth contour along the mainland coast and along islands and offshore seamounts from July 1 through December 31; and is closed entirely from January 1 through June 30 (i.e., prohibited seaward of the shoreline). Closures around the Farallon Islands (see paragraph (c)(3)(i)(C) of this section) and Cordell Banks (see paragraph (c)(3)(i)(D) of this section) also apply in this area.

* * * * *

(4) South of 34°27.00′ N. latitude, recreational fishing for all groundfish (except California scorpionfish as specified below in this paragraph and in paragraph (v) and “other flatfish” as specified in paragraph (c)(3)(iv) of this section) is prohibited seaward of a boundary line approximating the 60-fm (110-m) depth contour from March 1 through August 30 and November 1 through December 31 along the mainland coast and along islands and offshore seamounts; and is prohibited seaward of a boundary line approximating the 30-fm (55-m) depth contour from September 1 through October 31; except in the CCAs where fishing is prohibited seaward of the 20-fm (37-m) depth contour when the fishing season is open (see paragraph (c)(3)(i)(B) of this section). Recreational fishing for all groundfish (except “other flatfish”) is closed entirely from January 1 through February 28 (i.e., prohibited seaward of the shoreline). Recreational fishing for California scorpionfish south of 34°27.00′ N. latitude is prohibited seaward of a boundary line approximating the 30-fm (55-m) depth contour from October 1 through October 31, and seaward of the 60-fm (110-m) depth contour from November 1 through December 31, except in the CCAs where fishing is prohibited seaward of the 20-fm (37-m) depth contour when the fishing season is open. Recreational fishing for California scorpionfish south of 34°27.00′ N. latitude is closed entirely from January 1 through September 30 (i.e., prohibited seaward of the shoreline). Coordinates for the boundary line approximating the 30-fm (55-m) and 60-fm (110-m) depth contours are specified in § 660.391 and 660.392.

* * * * *

5. In § 660.385, paragraphs (b)(2) and (d) are revised and paragraphs (f) and (g) are added to read as follows:

§ 660.385 Washington coastal tribal fisheries management measures.

* * * * *

(b) * * *

(2) The tribe will manage their fisheries so that fishermen are either subject to a 300 lb trip limit for thornyheads or subject to the limited entry trip limits for thornyheads.

* * * * *

(d) Flatfish and other fish. Treaty fishing vessels using bottom trawl gear are subject to the limits applicable to the non-tribal limited entry trawl fishery for English sole, rex sole, arrowtooth flounder, and other flatfish that are published at the beginning of the year. Treaty fishing vessels are restricted to a 50,000 lb (22,680 kg) per 2-month limit for petrale sole for the entire year.

* * * * *

(f) There is a tribal harvest guideline of 400 mt of Pacific cod. The tribes will manage their fisheries within this harvest guideline.

(g) The tribes will manage their spiny dogfish fishery within the trip limits for the non-tribal fisheries.

* * * * *

6. In § 660.391, paragraph (e) is revised to read as follows:

§ 660.391 Latitude/longitude coordinates defining the 27 fm (49 m) through 40 fm (73 m) depth contours.

(e) The 30 fm (55 m) depth contour around the northern Channel Islands off the state of California is defined by straight lines connecting all of the following points in the order stated:

(1) 34°00.98′ N. lat., 119°20.46′ W. long.;

(2) 34°00.53′ N. lat., 119°20.98′ W. long.;

(3) 34°00.17′ N. lat., 119°21.83′ W. long.;

(4) 33°59.65′ N. lat., 119°24.45′ W. long.;

(5) 33°59.68′ N. lat., 119°25.20′ W. long.;

(6) 33°59.95′ N. lat., 119°26.25′ W. long.;

(7) 33°59.87′ N. lat., 119°27.27′ W. long.;

(8) 33°59.55′ N. lat., 119°28.02′ W. long.;

(9) 33°58.63′ N. lat., 119°36.48′ W. long.;

(10) 33°57.62′ N. lat., 119°41.13′ W. long.;

(11) 33°57.00′ N. lat., 119°42.20′ W. long.;

(12) 33°56.93′ N. lat., 119°48.00′ W. long.;

(13) 33°56.45′ N. lat., 119°49.12′ W. long.;

(14) 33°58.54′ N. lat., 119°52.80′ W. long.;

(15) 33°59.95′ N. lat., 119°54.49′ W. long.;

(16) 33°59.83′ N. lat., 119°56.00′ W. long.;

(17) 33°59.18′ N. lat., 119°57.17′ W. long.;

(18) 33°57.83′ N. lat., 119°56.74′ W. long.;

(19) 33°55.71′ N. lat., 119°56.89′ W. long.;

(20) 33°53.89′ N. lat., 119°57.68′ W. long.;

(21) 33°52.93′ N. lat., 119°59.80′ W. long.;

(22) 33°52.79′ N. lat., 120°01.81′ W. long.;

(23) 33°52.51′ N. lat., 120°03.08′ W. long.;

(24) 33°53.12′ N. lat., 120°04.88′ W. long.;

(25) 33°53.12′ N. lat., 120°05.80′ W. long.;

(26) 33°52.94′ N. lat., 120°06.50′ W. long.;

(27) 33°54.03′ N. lat., 120°10.00′ W. long.;

(28) 33°54.58′ N. lat., 120°11.82′ W. long.;

(29) 33°57.08′ N. lat., 120°14.58′ W. long.;

(30) 33°59.50′ N. lat., 120°16.72′ W. long.;

(31) 33°59.63′ N. lat., 120°17.88′ W. long.;

(32) 34°00.30′ N. lat., 120°19.14′ W. long.;

(33) 34°00.02′ N. lat., 120°19.68′ W. long.;

(34) 34°00.08′ N. lat., 120°21.73′ W. long.;

(35) 34°00.94′ N. lat., 120°24.82′ W. long.;

(36) 34°01.09′ N. lat., 120°27.29′ W. long.;

(37) 34°00.96′ N. lat., 120°28.09′ W. long.;

(38) 34°01.56′ N. lat., 120°28.71′ W. long.;

(39) 34°01.80′ N. lat., 120°28.31′ W. long.;

(40) 34°03.60′ N. lat., 120°28.87′ W. long.;

(41) 34°05.20′ N. lat., 120°29.38′ W. long.;

(42) 34°05.35′ N. lat., 120°28.20′ W. long.;

(43) 34°05.30′ N. lat., 120°27.33′ W. long.;

(44) 34°05.65′ N. lat., 120°26.79′ W. long.;

(45) 34°05.69′ N. lat., 120°25.82′ W. long.;

(46) 34°07.24′ N. lat., 120°24.98′ W. long.;

(47) 34°06.00′ N. lat., 120°23.30′ W. long.;

(48) 34°05.64′ N. lat., 120°21.44′ W. long.;

(49) 34°03.61′ N. lat., 120°18.40′ W. long.;

(50) 34°03.25′ N. lat., 120°16.64′ W. long.;

(51) 34°04.33′ N. lat., 120°14.22′ W. long.;

(52) 34°04.11′ N. lat., 120°11.17′ W. long.;

(53) 34°03.72′ N. lat., 120°09.93′ W. long.;

(54) 34°03.81′ N. lat., 120°08.96′ W. long.;

(55) 34°03.36′ N. lat., 120°06.52′ W. long.;

(56) 34°04.80′ N. lat., 120°04.00′ W. long.;

(57) 34°03.48′ N. lat., 120°01.75′ W. long.;

(58) 34°04.00′ N. lat., 120°01.00′ W. long.;

(59) 34°03.99′ N. lat., 120°00.15′ W. long.;

(60) 34°03.51′ N. lat., 119°59.42′ W. long.;

(61) 34°03.79′ N. lat., 119°58.15′ W. long.;

(62) 34°04.72′ N. lat., 119°57.61′ W. long.;

(63) 34°05.14′ N. lat., 119°55.17′ W. long.;

(64) 34°04.66′ N. lat., 119°51.60′ W. long.;

(65) 34°03.79′ N. lat., 119°48.86′ W. long.;

(66) 34°03.79′ N. lat., 119°45.46′ W. long.;

(67) 34°03.27′ N. lat., 119°44.17′ W. long.;

(68) 34°03.29′ N. lat., 119°43.30′ W. long.;

(69) 34°01.71′ N. lat., 119°40.83′ W. long.;

(70) 34°01.74′ N. lat., 119°37.92′ W. long.;

(71) 34°02.07′ N. lat., 119°37.17′ W. long.;

(72) 34°02.93′ N. lat., 119°36.52′ W. long.;

(73) 34°03.48′ N. lat., 119°35.50′ W. long.;

(74) 34°03.56′ N. lat., 119°32.80′ W. long.;

(75) 34°02.72′ N. lat., 119°31.84′ W. long.;

(76) 34°02.20′ N. lat., 119°30.53′ W. long.;

(77) 34°01.49′ N. lat., 119°30.20′ W. long.;

(78) 34°00.66′ N. lat., 119°28.62′ W. long.;

(79) 34°00.66′ N. lat., 119°27.57′ W. long.;

(80) 34°01.41′ N. lat., 119°26.91′ W. long.;

(81) 34°00.91′ N. lat., 119°24.28′ W. long.;

(82) 34°01.51′ N. lat., 119°22.06′ W. long.;

(83) 34°01.41′ N. lat., 119°20.61′ W. long.; and

(84) 34°00.98′ N. lat., 119°20.46′ W. long.

* * * * *

7. In § 660.392, paragraph (g) is revised to read as follows:

§ 660.392 Latitude/longitude coordinates defining the 50 fm (91 m) through 75 fm (137 m) depth contours.

(g)The 30 fm (55 m) depth contour around Santa Catalina Island off the state of California is defined by straight lines connecting all of the following points in the order stated:

(1) 34°09.16′ N. lat., 120°26.31′ W. long.;

(2) 34°06.69′ N. lat., 120°16.43′ W. long.;

(3) 34°06.38′ N. lat., 120°04.00′ W. long.;

(4) 34°07.36′ N. lat., 119°52.06′ W. long.;

(5) 34°04.84′ N. lat., 119°36.94′ W. long.;

(6) 34°04.84′ N. lat., 119°35.50′ W. long.;

(7) 34°05.04′ N. lat., 119°32.80′ W. long.;

(8) 34°04.00′ N. lat., 119°26.70′ W. long.;

(9) 34°02.80′ N. lat., 119°21.40′ W. long.;

(10) 34°02.36′ N. lat., 119°18.97′ W. long.;

(11) 34°00.65′ N. lat., 119°19.42′ W. long.;

(12) 33°59.45′ N. lat., 119°22.38′ W. long.;

(13) 33°58.68′ N. lat., 119°32.36′ W. long.;

(14) 33°56.14′ N. lat., 119°41.09′ W. long.;

(15) 33°55.84′ N. lat., 119°48.00′ W. long.;

(16) 33°57.22′ N. lat., 119°52.09′ W. long.;

(17) 33°59.32′ N. lat., 119°55.59′ W. long.;

(18) 33°57.52′ N. lat., 119°55.19′ W. long.;

(19) 33°56.10′ N. lat., 119°54.25′ W. long.;

(20) 33°50.28′ N. lat., 119°56.02′ W. long.;

(21) 33°48.51′ N. lat., 119°59.67′ W. long.;

(22) 33°49.14′ N. lat., 120°03.58′ W. long.;

(23) 33°51.93′ N. lat., 120°06.50′ W. long.;

(24) 33°54.36′ N. lat., 120°13.06′ W. long.;

(25) 33°58.53′ N. lat., 120°20.46′ W. long.;

(26) 34°00.12′ N. lat., 120°28.12′ W. long.;

(27) 34°08.09′ N. lat., 120°35.85′ W. long.;

(28) 34°08.80′ N. lat., 120°34.58′ W. long.; and

(29) 34°09.16′ N. lat., 120°26.31′ W. long.

* * * * *

8. In § 660.393, paragraph (h)(157) is revised to read as follows:

§ 660.393 Latitude/longitude coordinates defining the 100 fm (183 m) through 150 fm (274 m) depth contours.

* * * * *

(h) * * *

* * * * *

(157) 40°21.90′ N. lat., 124°25.18′ W. long.;

* * * * *

9. In part 660, subpart G, Tables 2a and 2b are revised to read as follows:

BILLING CODE 3510-22-S

10. In part 660, subpart G, Tables 3 (both North and South), Tables 4 (both North and South) and Tables 5 (both North and South) are revised to read as follows:

[FR Doc. 05-24205 Filed 12-14-05; 3:57 pm]

BILLING CODE 3510-22-C